DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission, DOE.

DATE AND TIME: November 21, 2013, 10:00 a.m.

PLACE: Room 2C, 888 First Street NE., Washington, DC 20426.

STATUS: Open.

MATTERS TO BE CONSIDERED: Agenda.

Note: Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

999th—Meeting, Regular Meeting, November 21, 2013, 10:00 a.m.
Item No. | Docket No. | Company
Administrative
A-1 | AD02-1-000 | Agency Business Matters.
A-2 | AD02-7-000 | Customer Matters, Reliability, Security and Market Operations.
A-3 | AD07-13-006 | 2013 Report on Enforcement.
Electric
E-1 | RM13-2-000 | Small Generator Interconnection Agreements and Procedures.
E-2 | RM13-5-000 | Version 5 Critical Infrastructure Protection Reliability Standards.
E-3 | RM13-12-000 | Monitoring System Conditions—Transmission Operations Reliability Standard.
| RM13-14-000 | Transmission Operations Reliability Standards.
| RM13-15-000 | Interconnection Reliability Operations and Coordination Reliability Standards.
E-4 | RM13-8-000 | Electric Reliability Organization Proposal to Retire Requirements in Reliability Standards.
E-5 | NJ12-7-000 | Bonneville Power Administration.
| NJ12-13-000
E-6 | EL12-98-000 | Hudson Transmission Partners, LLC v. New York Independent System Operator, Inc.
E-7 | OMITTED |
E-8 | OMITTED |
E-9 | OMITTED |
E-10 | RM13-13-000 | Regional Reliability Standard BAL-002-WECC-2—Contingency Reserve.
E-11 | OA13-8-000 | Genesis Solar, LLC.
E-12 | ER13-2412-000 | Trans Bay Cable LLC.
E-13 | ER13-1612-000 | Arizona Public Service Company.
Gas
G-1 | RP09-487-004 | High Island Offshore System, L.L.C.
Hydro
H-1 | P-12569-004 | Public Utility District No. 1 of Okanogan County, Washington.
H-2 | P-2662-012 | FirstLight Hydro Generating Company.
| P-12968-001 | City of Norwich Department of Public Utilities.
Certificates
C-1 | RM12-11-000 | Revisions to Auxiliary Installations, Replacement.
| RM12-11-001 | Facilities, and Siting and Maintenance Regulations.
C-2 | CP13-8-000 | Columbia Gas Transmission, LLC.
C-3 | CP13-30-000 | Transcontinental Gas Pipe Line Company, LLC.
C-4 | CP12-516-001 | Discovery Gas Transmission LLC.

Issued: November 14, 2013.
Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2013-27750 Filed 11-15-13; 11:15 am]

BILLING CODE 6717-01-P